DEPARTMENT OF THE INTERIOR

U.S. Geological Survey

[GR13RB00CMFRP00]

Agency Information Collection Activities: Comment Request

AGENCY: United States Geological Survey (USGS), Interior.

ACTION: Notice of new information collection, Economic Contribution of Federal Investments in Restoration of Degraded, Damaged, or Destroyed Ecosystems.

SUMMARY: To comply with the Paperwork Reduction Act of 1995 (PRA), we (The U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: Submit written comments by July 11, 2013.

ADDRESSES: Please submit written comments on this ICR directly to the Office of Management and Budget (OMB) Office of Information and Regulatory Affairs, Attention: Desk Officer for the Department of the Interior via email to OIRA_SUBMISSION@omb.eop.gov or fax at 202-395-5806. Please also submit comments on this information collection to the Information Collection Clearance Officer, U.S. Geological Survey, 12201 Sunrise Valley Drive MS 807, Reston, VA 20192 (mail); (703) 648-7195 (fax); or dgovoni@usgs.gov (email). Use Information Collection Number 1028-NEW, Economic Contribution of Federal Investments in Restoration of Degraded, Damaged, or Destroyed Ecosystems in the subject line.

FOR FURTHER INFORMATION CONTACT: Dr. Lynne Koontz, U.S. Geological Survey, 2150-C Centre Ave, Fort Collins, CO 80526 (mail); koontzl@usgs.gov (email); or: 970-226-9384 (phone). You may also find information on this information collection at www.reginfo.gov.

SUPPLEMENTARY INFORMATION:

Title: Economic Contribution of Federal Investments in Restoration of Degraded, Damaged, or Destroyed Ecosystems.

OMB Control Number: 1028-NEW.

Abstract

Federal investments in ecosystem restoration and monitoring protect Federal trusts, ensure public health and safety, and preserve and enhance essential ecosystem services. These investments also support jobs. There is a need to better understand the connection between restoring the health and productivity of ecosystems and the resulting economic benefits to local communities. This project aims to increase the available information on the costs and required inputs for ecosystem restoration and the resultant economic benefits of these investments to local economies. The project is comprised of a series of case studies that quantify the economic impacts of restoration projects. The case studies will include examples of collaboratively funded and managed projects to restore a wide range of degraded, damaged, or destroyed ecosystems. In addition to providing improved information on the economic impacts of restoration, these case studies highlight DOI restoration efforts and tell personalized stories about each project and the communities that are positively affected by restoration activities. Project methods include the collection of primary expenditure data and economic input-output modeling.

Frequency: One time.

Estimated total responses: 900. We will make an introductory call to approximately 100 project managers. We expect approximately 100 project managers will respond to the project summary survey. We expect 100 project managers and 500 contractors to respond to the expenditures survey. We expect to follow up with approximately 100 contacts to remind them to complete the survey(s).

Estimated total burden hours: 358. We estimate it will take 15 minutes to make the initial contact for the project summary survey; 15 minutes for respondents to complete the project summary survey; 30 minutes for respondents to complete the expenditure survey; and 5 minutes for a follow-up contact.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number.

Comments: On November 15, 2011, we published a 60-day Federal Register notice (FR Doc No: 2011-29425) announcing that we would submit this information request to OMB for approval. In that notice we solicited public comments for 60 days, ending January 14, 2012. We received one comment and it was not applicable to the proposed collection.

We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. While you can ask OMB in your comment to withhold your personal identifying information from public review, we cannot guarantee that it will be done.

Dated: May 30, 2013.
Ione Taylor,
Associate Director, Energy and Minerals, and Environmental Health Programs.

[FR Doc. 2013-13711 Filed 6-10-13; 8:45 am]

BILLING CODE 4311-AM-P